DEPARTMENT OF HEALTH AND HUMAN SERVICES

Meeting of the National Vaccine Advisory Committee

AGENCY: National Vaccine Program Office, Office of the Assistant Secretary for Health, Office of the Secretary, Department of Health and Human Services.

ACTION: Notice.

SUMMARY: As stipulated by the Federal Advisory Committee Act, the Department of Health and Human Services (HHS) is hereby giving notice that the National Vaccine Advisory Committee (NVAC) will hold a meeting September 9-10, 2014. The meeting is open to the public. However, pre-registration is required for both public attendance and public comment. Individuals who wish to attend the meeting and/or participate in the public comment session should register at http://www.hhs.gov/nvpo/nvac. Participants may also register by emailing nvpo@hhs.gov or by calling 202-690-5566 to provide your name, organization, and email address.

DATES: The meeting will be held on September 9-10, 2014. The meeting times and agenda will be posted on the NVAC Web site at http://www.hhs.gov/nvpo/nvac as soon they become available.

ADDRESSES: U.S. Department of Health and Human Services, Hubert H. Humphrey Building, Room 800, 200 Independence Avenue SW., Washington, DC 20201.

The meeting can also be accessed through a live webcast the day of the meeting. For more information, visit http://www.hhs.gov/nvpo/nvac/meetings/upcomingmeetings/index.html.

FOR FURTHER INFORMATION CONTACT: National Vaccine Program Office, U.S. Department of Health and Human Services, Room 715-H, Hubert H. Humphrey Building, 200 Independence Avenue SW., Washington, DC 20201. Phone: (202) 690-5566; email: nvpo@hhs.gov.

SUPPLEMENTARY INFORMATION: Pursuant to Section 2101 of the Public Health Service Act (42 U.S.C. 300aa-1), the Secretary of Health and Human Services was mandated to establish the National Vaccine Program to achieve optimal prevention of human infectious diseases through immunization and to achieve optimal prevention against adverse reactions to vaccines. The NVAC was established to provide advice and make recommendations to the Director of the National Vaccine Program on matters related to the Program's responsibilities. The Assistant Secretary for Health serves as Director of the National Vaccine Program.

The topics planned for NVAC discussion will include a presentation on the progress of the development of a National Adult Immunization Plan; plans by the NVPO to conduct a mid-course review of the 2010 National Vaccine Plan; the recent findings of a comprehensive review of vaccine safety; and an overview of vaccine research and development efforts for developing vaccines for use in pregnant women. In addition, the NVAC working group on Vaccine Confidence will present their findings and recommendations for NVAC consideration and discussion. The NVAC also will hear an overview of Canada's efforts to strengthen the Canadian immunization system and an update on our national progress towards the Healthy People 2020 immunization goals. Finally, the NVAC HPV Working Group will provide an update on its progress. The meeting agenda will be posted on the NVAC Web site: http://www.hhs.gov/nvpo/nvac prior to the meeting.

Public attendance at the meeting is limited to the available space. Individuals who plan to attend and need special assistance, such as sign language interpretation or other reasonable accommodations, should notify the National Vaccine Program Office at the address/phone listed above at least one week prior to the meeting. For those unable to attend in person, a live webcast will be available. More information on registration and accessing the webcast can be found at http://www.hhs.gov/nvpo/nvac/meetings/upcomingmeetings/index.html.

Members of the public will have the opportunity to provide comments at the NVAC meeting during the public comment periods designated on the agenda. Individuals who would like to submit written statements should email their comments to the National Vaccine Program Office (nvpo@hhs.gov) at least five business days prior to the meeting.

Dated: July 29, 2014.
Bruce Gellin,
Executive Secretary, National Vaccine Advisory Committee, Deputy Assistant Secretary for Health, Director, National Vaccine Program Office.

[FR Doc. 2014-19046 Filed 8-11-14; 8:45 am]

BILLING CODE 4150-44-P